DEPARTMENT OF COMMERCE

Census Bureau

Submission for OMB Review; Comment Request

The Department of Commerce will submit to the Office of Management and Budget (OMB) for clearance the following proposal for collection of information under the provisions of the Paperwork Reduction Act.

Agency: U.S. Census Bureau, Commerce.

Title: 2020 Census Post-Enumeration Survey Independent Listing Operation.

OMB Control Number: 0607-XXXX.

Form Number(s): D-31(PES-IL), D-31(PES-IL)PR, D-26(E/S).

Type of Request: Regular submission.

Number of Respondents: 565,000 Housing Units for Independent Listing and 85,000 housing units for Independent Listing Quality Control.

Average Hours per Response: 5 minutes.

Burden Hours: 54,167 hours.

Needs and Uses: The Post-Enumeration Survey for the 2020 Census will be conducted to provide estimates of census net coverage error and components of census coverage (such as correct enumerations, omissions, and erroneous enumerations, including duplicates) for housing units and people living in housing units to improve future censuses. The primary sampling unit is the Basic Collection Unit, which is the smallest unit of collection geography for 2020 Census listing operations. As in the past, including in the 2010 Census Coverage Measurement program, the Post-Enumeration Survey operations and activities must be conducted separate from and independent of the other 2020 Census operations.

The Independent Listing operation is the first field operation in the Post-Enumeration Survey process. It will be conducted to obtain a complete inventory of all housing unit addresses within the Post-Enumeration Survey sample of basic collection units in the United States (excluding remote Alaska) and in Puerto Rico before the 2020 Census enumeration commences. Group quarters will be excluded. Remote Alaska is out of scope for the PES because the seasonal nature of addresses and the population throughout the year make it infeasible to accurately conduct the matching and follow-up operations necessary for dual-system estimation. For this reason, the Census Bureau's past post-enumeration surveys have never included remote Alaska.

Field staff, referred to as “listers,” will canvass every street, road, or other place where people might live in their assigned basic collection units and construct a list of housing units using an automated data collection instrument on a laptop. Listers will attempt to contact a member of each housing unit they encounter on their route to ensure all units at a given address are identified. If someone answers, the lister will provide a Confidentiality Notice and ask about the address in order to collect the address information, as appropriate. If the lister does not find anyone at home after several attempts, he or she will try to collect the information from a proxy or add any found addresses to the address list by observation as a last resort. Proxies are respondents who are not members of the household. Listers will also identify the location of each housing unit by collecting map spots (i.e., Global Positioning System (GPS) coordinates). The lister will also collect information on the status of each housing unit, such as occupied, vacant, under construction, empty trailer park, etc.

Completed Independent Listing basic collection units will be automatically reviewed for unusual characteristics (such as GPS information indicating that the lister was far from the units they were listing). Basic collection units with unusual characteristics may be subject to a quality control wherein quality control listers return to the field to check a portion of units to ensure that the work performed meets Census Bureau quality standards.

As previously discussed within the presubmission Federal Register Notice for Post-Enumeration Survey Independent Listing and Quality Control (FR Vol. 83, Number 207, October 25, 2018, Pages 53849-53850), the 2020 Census Evaluations and Experiments program will also be receiving the data collected in this operation for a 2020 Census evaluation of the 2020 Census Address Canvassing operation. This evaluation will take full advantage of the fact that it uses the same listing procedures as the Post-Enumeration Survey Independent Listing. The sample size for the Post-Enumeration Survey Independent Listing is sufficient for the Address Canvassing evaluation needs. Using the collected data for both purposes minimizes respondent burden. Specific details of the Address Canvassing evaluation will be described in a subsequent Nonsubstantive Change to the Post-Enumeration Survey Independent Listing data collection. Other components of the 2020 Census Experiments and Evaluations program are described in either the Generic Clearance for Census Bureau Field Tests and Evaluations (covered under OMB approval #0607-0971), or will be described as the third component of the 2020 Census data collection (covered under OMB approval #0607-1006, Evaluations and Experiments component, to appear).

Affected Public: Individuals or Households.

Frequency: One Time.

Respondent's Obligation: Mandatory.

Legal Authority: Title 13, U.S. Code, Sections 141 and 193.

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
Departmental Lead PRA Officer, Office of the Chief Information Officer, Commerce Department.

[FR Doc. 2019-06652 Filed 4-4-19; 8:45 am]

BILLING CODE 3510-07-P